DEPARTMENT OF THE INTERIOR

National Park Service

Notice of Availability of the Record of Decision for Combined Final Lower Sheenjek Wild and Scenic River Study and Legislative EIS

AGENCIES: National Park Service, Interior.

ACTION: Notice of availability of the record of decision for the combined final Lower Sheenjek Wild and Scenic River Study and Legislative EIS

SUMMARY: The National Park Service (NPS) announces the availability of the Record of Decision (ROD) for the combined final Lower Sheenjek Wild and Scenic River Study and Legislative EIS.

The final study/LEIS was required by Section 5(a) of the National Wild and Scenic Rivers Act as amended by Section 604 of the Alaska National Interest Lands Conservation Act. It evaluates the segment of the Lower Sheenjek River from the mouth to the northern Boundary of the Yukon Flats National Wildlife Refuge, a distance of about 99 river miles.

The final study/LEIS and Record of Decision were done cooperatively by the U.S. Fish and Wildlife Service and National Park Service, as the latter agency was delegated wild and scenic river study responsibility by the Secretary of the Interior.

The Record of Decision (ROD) documents the decision of the Department of the Interior regarding the lower Sheenjek River. This ROD briefly discusses the background of the planning effort, states the decision and discusses the basis for it, describes other alternatives considered, specifies the environmentally preferable alternative, identifies measures adopted to minimize potential environmental harm, and summarizes the results of public involvement during the planning process.

The Record of Decision recommends congressional designation of the segment as a wild river. The directors of the National Park Service and U.S. Fish and Wildlife Service will continue coordination of the joint recommendation to the Secretary of the Interior. The Secretary will forward the final study/LEIS to the President, who will provide his recommendation and send it to Congress. Congress will make the final decision whether or not to designate the Lower Sheenjek River as a component of the National Wild and Scenic River System.

ADDRESSES: Copies of the ROD are available on request from: Jack Mosby, Program Manager—Rivers, Trails, and Conservation Assistance, National Park Service, 2525 Gambell Street, Anchorage, AK 99503-2892. Telephone (907) 257-2650 or email: jack_mosby@nps.gov

FOR FURTHER INFORMATION CONTACT: Jack Mosby, Program Manager—Rivers, Trails, and Conservation Assistance, National Park Service, 2525 Gambell Street, Anchorage, AK 99503-2892. Telephone (907) 257-2650 or email: jack_mosby@nps.gov

Dated: May 26, 2000.
Robert D. Barbee,
Regional Director, Alaska.

[FR Doc. 00-14680 Filed 6-8-00; 8:45 am]

BILLING CODE 4310-70-P